DEPARTMENT OF DEFENSE

Office of the Secretary

[Docket ID: DOD-2009-OS-0044]

Privacy Act of 1974; System of Records

AGENCY: Defense Threat Reduction Agency, DoD.

ACTION: Notice to amend a system of records.

SUMMARY: Defense Threat Reduction Agency is amending a system of records notices in its existing inventory of record systems subject to the Privacy Act of 1974, (5 U.S.C. 552a), as amended.

DATES: This proposed action will be effective without further notice on April 16, 2009 unless comments are received which result in a contrary determination.

ADDRESSES: Send comments to the Freedom of Information and Privacy Office, Defense Threat Reduction Agency, 8725 John J. Kingman Road, Fort Belvoir, VA 22060-6201.

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: March 11, 2009.
Morgan E. Frazier,
Alternate OSD Federal Register Liaison Officer, Department of Defense.

HDTRA 019

System Name:

Arms Control Treaty Inspections Management System (April 18, 2007, 72FR 19471).

Changes:

* * * * *

System Name:

Delete entry and replace with “Arms Control Inspection Planning System Records”.

System Location:

Delete entry and replace with “Defense Threat Reduction Agency, Room 4533, HQ Complex, 8725 John J. Kingman Road, VA 22060-6201.”

* * * * *

System Manager(s) and Address:

Delete entry and replace with “Arms Control Inspection Planning System, Program Lead, Operations Enterprise, Operations Branch, Defense Threat Reduction Agency, Room 4533, HQ Complex, 8725 John J. Kingman Rd., VA 22060-6201.”

Notification Procedure:

Delete entry and replace with “Individuals seeking to determine whether information about themselves is contained in this system of records should address written inquiries to Arms Control Inspection Planning System, Program Lead, Operations Enterprise, Operations Branch, Defense Threat Reduction Agency, Room 4533, HQ Complex, 8725 John J. Kingman Road, Ft Belvoir, VA 22060-6201.

Requests should contain individual's full name and Social Security Number (SSN).”

Record Access Procedures:

Delete entry and replace with “Individuals seeking to determine whether information about themselves is contained in this system of records should address written inquiries to Arms Control Inspection Planning System, Program Lead, Operations Enterprise, Operations Branch, Defense Threat Reduction Agency, Room 4533, HQ Complex, 8725 John J. Kingman Road, Ft Belvoir, VA 22060-6201.

Requests should contain individual's full name and Social Security Number (SSN).”

Contesting Record Procedures:

Delete entry and replace with “The DTRA rules for accessing records and for contesting contents and appealing initial agency determinations are published in DTRA Instruction 5400.11; 32 CFR part 318; or may be obtained from the Arms Control Inspection Planning System, Program Lead, Operations Enterprise, Operations Branch, Defense Threat Reduction Agency, Room 4533, HQ Complex, 8725 John J. Kingman Road, Ft. Belvoir VA 22060-6201.”

* * * * *

HDTRA 019

System Name:

Arms Control Inspection Planning System Records.

System Location:

Defense Threat Reduction Agency, Room 4533, HQ Complex, 8725 John J. Kingman Road, VA 22060-6201.

Categories of Individuals Covered by the System:

Individuals affiliated with the Defense Threat Reduction Agency, either by military assignment, civilian employment, or contractual support agreement. Individuals that are weapons inspectors, linguists, mission schedulers/planners, personnel assistants/specialists, portal rotation specialists, operation technicians, passport managers, clerical staff, and database management specialists.

Categories of Records in the System:

Individual's name, Social Security Number (SSN), date of birth, city/state/country of birth, education, gender, race, civilian or military member, military rank, security clearance, occupational category, job organization and location, emergency locator information, and passport numbers.

Authority for Maintenance of the System:

5 U.S.C. 301, Departmental Regulations; 5 U.S.C. 302, Delegation of Authority; National Security Directive 41, Organizing to Manage On-site Inspection for Arms Control; and E.O. 9397 (SSN).

Purpose(s):

To manage the Arms Control activities, including personnel resources, manpower/billet management, passport status, mission scheduling and planning, inspection team composition, inspector and transport list management, inspector training, and inspection notification generation.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses' set forth at the beginning of DTRA's compilation of systems of records notices apply to this system.

Policies and Practices of Storing, Retrieving, Accessing, Retaining, and Disposing of Records in the System:

Storage:

Paper records in file folders and electronic storage media.

Retrievability:

Records may be retrieved by name and/or Social Security Number (SSN), title, personnel type, and passport numbers.

Safeguards:

Records are maintained in areas accessible only to Defense Threat Reduction Agency personnel who must use the records to perform their duties. The computer files are password protected with access restricted to authorized users. Records are secured in locked or guarded buildings, locked offices, or locked cabinets during non-duty hours. Records are stored in a computer system with extensive intrusion safeguards.

Retention and Disposal:

Records are maintained for as long as the individual is assigned to Defense Threat Reduction Agency (DTRA). Upon departure from DTRA, records concerning that individual are removed from the active file and retained in an inactive file for two years and then deleted.

System Manager(s) and Address:

Arms Control Inspection Planning System, Program Lead, Operations Enterprise, Operations Branch, Defense Threat Reduction Agency, Room 4533, HQ Complex, 8725 John J. Kingman Rd., VA 22060-6201.

Notification Procedure:

Individuals seeking to determine whether information about themselves is contained in this system of records should address written inquiries to Arms Control Inspection Planning System System, Program Lead, Operations Enterprise, Operations Branch, Defense Threat Reduction Agency, Room 4533, HQ Complex, 8725 John J. Kingman Road, Ft Belvoir, VA 22060-6201.

Requests should contain individual's full name and Social Security Number (SSN).

Record Access Procedures:

Individuals seeking to determine whether information about themselves is contained in this system of records should address written inquiries to Arms Control Inspection Planning System System, Program Lead, Operations Enterprise, Operations Branch, Defense Threat Reduction Agency, Room 4533, HQ Complex, 8725 John J. Kingman Road, Ft Belvoir, VA 22060-6201.

Requests should contain individual's full name and Social Security Number (SSN).

Contesting Record Procedures:

The DTRA rules for accessing records and for contesting contents and appealing initial agency determinations are published in DTRA Instruction 5400.11; 32 CFR part 318; or may be obtained from the Arms Control Inspection Planning System, Program Lead, Operations Enterprise, Operations Branch, Defense Threat Reduction Agency, Room 4533, HQ Complex, 8725 John J. Kingman Road, Ft. Belvoir VA 22060-6201.

Record Source Categories:

Individual, DTR Officials, and assignment personnel.

Exemptions Claimed for the System:

None.

[FR Doc. E9-5699 Filed 3-16-09; 8:45 am]

BILLING CODE 5001-06-P